FEDERAL COMMUNICATIONS COMMISSION

Information Collection Being Reviewed by the Federal Communications Commission

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 9, 2012. If you anticipate that you will be submitting PRA comments, but find it difficult to do so within the period of time allowed by this notice, you should advise the FCC contact listed below as soon as possible.

ADDRESSES: Submit your PRA comments to Nicholas A. Fraser, Office of Management and Budget, via fax at (202) 395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0400.

Title: Part 61, Tariff Review Plan (TRP).

Form Number: N/A.

Type of Review: Revision of a currently approved collection.

Respondents: Business or other for-profit entities.

Number of Respondents: 2,840 respondents; 8,554 responses.

Estimated Time per Response: .5 hours to 53 hours.

Frequency of Response: On occasion, annual biennial, and one time reporting requirements.

Obligation to Respond: Required to obtain or retain benefits. Statutory authority for this information collection is contained in 47 U.S.C. 201, 202, 203, and 251(b)(5) of the Communications Act of 1934, as amended.

Total Annual Burden: 121,656 hours.

Total Annual Cost: N/A.

Privacy Impact Assessment: N/A.

Nature and Extent of Confidentiality: Respondents are not being asked to submit confidential information to the Commission. If the Commission requests respondents to submit information which respondents believe are confidential, respondents may request confidential treatment of such information under 47 CFR 0.459 of the Commission's rules.

Needs and Uses: The Commission will submit this revised information collection to the Office of Management and Budget (OMB) after this 60 day comment period to obtain the full three year approval from them. The hourly burden has increased by 117,056 hours which is due to an Order that was adopted and released requiring or permitting incumbent and competitive local exchange carriers, as part of transitioning regulation of interstate and intrastate switched access rates and reciprocal compensation rates to bill-and-keep under section 251(b)(5), to file tariffs with state commissions and the FCC. This transition affects different switched access rates at specified timeframes and establishes an Access Recovery Charge by which carriers will be able to assess end users a monthly charge to recover some or all of the revenues they are permitted to recover resulting from reductions in intercarrier compensation rates. Price cap LECs must remove the rate elements in the traffic-sensitive and trunking baskets from price cap regulation on July 1, 2012. There interstate tariff filings will require cost support that generally is encompassed in the existing support burdens and, in many cases, may be satisfied through the data collection encompassed by a new information collection entitled “Intercarrier Compensation and Universal Service Compliance and Monitoring” which will also be submitted to the OMB for approval and assigned an OMB control number (see description of new information collection below). The intrastate tariff filings may, depending on state requirements, require supporting materials to be filed that may also largely be satisfied by submitting the new information collection referenced above.

As of November 2010, there are 92 total incumbent LECs that file interstate tariffs. Of them, there are 39 ILECs that file pursuant to price cap regulation under Sections 61.41-61.49 of the Commission's rules. Outside of the National Exchange Carrier Association (NECA), there are 12 ILECs filing their own tariffs pursuant to rate-of-return regulation under Section 61.38 of the Commission's rules. The remaining 40 ILECs file their own tariffs pursuant to section 61.39 of the Commission's rules. NECA files one Tariff Review Plan for approximately 1,000 Sections 61.38 and 61.39 ILECs. Therefore, we estimate 51 + 40 + 1 (NECA) = 92 filing entities.

We also estimate that 330 competitive and incumbent LECs will have to make a one-time interstate tariff filing to permit them to assess access charges on Voice over Internet Protocol (VoIP) calls. We estimate that 2,840 competitive and incumbent LECs will have to file intrastate tariffs annually which may require supporting materials to be filed. We also estimate that 2,840 competitive and incumbent LECs will have to make a one-time intrastate tariff filing to establish VoIP rates at interstate rate levels that may require supporting materials to be filed. Finally, we estimate that 1,340 incumbent LECs annually will certify, as part of their tariff filings to the Commission and to the relevant state commission, that they are not seeking duplicative recovery in the state jurisdiction for an Eligible Recovery subject to the recovery mechanism.

For those services still requiring cost support, TRPs assist the Commission in determining whether ILEC access charges are just and reasonable as required under the Communications Act of 1934, as amended.

OMB Control Number: 3060-XXXX.

Title: Intercarrier Compensation and Universal Service Compliance and Monitoring.

Form Number: N/A.

Type of Review: New collection.

Respondents: Business or other for-profit entities.

Number of Respondents: 1,340 respondents; 5,360 responses.

Estimated Time per Response: 1 hour to 15 hours.

Frequency of Response: Annual reporting requirements and third party disclosure requirements.

Obligation to Respond: Required to obtain or retain benefits. Statutory authority for this information collection is contained in 47 U.S.C. 201 through 205 and 251 through 254 of the Communications Act of 1934, as amended.

Total Annual Burden: 61,640 hours.

Total Annual Cost: N/A.

Privacy Impact Assessment: N/A.

Nature and Extent of Confidentiality: Respondents are not being asked to submit confidential information to the Commission. If the Commission requests respondents to submit information which respondents believe are confidential, respondents may request confidential treatment of such information under 47 CFR 0.459 of the Commission's rules.

Needs and Uses: The Commission will submit this new information collection to the Office of Management and Budget (OMB) for approval and assignment of an OMB control number after this comment period to obtain the full three year approval. The Commission estimates a program change increase of 61,640 total annual burden hours for this new information collection.

The USF/ICC Transformation Order, FCC 11-161, requires or permits incumbent and competitive local exchange carriers (LECs) as part of transitioning regulation of interstate and intrastate switched access and reciprocal compensation rate regulation to bill-and-keep under section 251(b)(5) to file tariffs with state commissions and the FCC. This transition affects different interstate and intrastate switched access rates at specified timeframes and establishes an Access Recovery Charge by which incumbent LECs will be able to assess end users a monthly charge to recover some or all of the revenues they are permitted to recover from reductions in intercarrier compensation rates. To permit the Commission and state commissions to monitor compliance with the revised intercarrier compensation rules and for incumbent LECs to receive CAF ICC support must also certify with its 2012 annual access tariff filing and on April 1st of each subsequent year that it has complied with the procedures for calculating its eligible recovery, the calculation of the appropriate access recovery charge, and that it is eligible to receive the CAF ICC support requested.

The Commission estimates that 1,340 incumbent LECs annually will have to file the required data with the FCC, the relevant station commissions, and USAC. We also estimate that those incumbent LECs will have to make the above new certification annually.

The information collected through these data collections will be used by the Commission and state commissions to determine whether the revised intercarrier compensation rules are being complied with and the services offered are just and reasonable as the Act requires. The data will also provide the Commission with the information to develop procedures to transition remaining intercarrier switched access rates to bill-and-keep. USAC will use the data to ensure that the CAF ICC payments it makes are appropriate under the revised rules. The certification is a further step in the compliance and monitoring process.

Federal Communications Commission.
Marlene H. Dortch,
Secretary, Office of the Secretary, Office of Managing Director.

[FR Doc. 2012-74 Filed 1-6-12; 8:45 am]

BILLING CODE 6712-01-P